DEPARTMENT OF VETERANS AFFAIRS

Increase in Maximum Tuition and Fee Amounts Payable Under the Post-9/11 GI Bill

AGENCY: Department of Veterans Affairs.

ACTION: Notice.

SUMMARY: The purpose of this notice is to inform the public of the increase in the Post-9/11 GI Bill maximum tuition and fee amounts payable and the increase in the amount used to determine an individual's entitlement charge for reimbursement of a licensing, certification, or national test for the 2022-2023 Academic Year (AY), effective August 1, 2022, through July 31, 2023.

FOR FURTHER INFORMATION CONTACT: Jamak Clifton, Management and Program Analyst, Education Service (225), Veterans Benefits Administration, Department of Veterans Affairs, 810 Vermont Avenue NW, Washington, DC 20420, at 202- 461-9800 or Jamak.Clifton@va.gov. This is not a toll-free number.

SUPPLEMENTARY INFORMATION: For the 2022-2023 AY, the Post-9/11 GI Bill allows the Department of Veterans Affairs (VA) to pay the actual net cost of tuition and fees not to exceed the in-state amounts for students pursuing training at public schools; $26,381.37 for students training at private and foreign schools; $26,381.37 for students training at non-degree granting schools; $15,075.05 for students training at vocational flight schools; and $12,813.78 for students training at correspondence schools. In addition, the entitlement charge for individuals receiving reimbursement of the costs associated with taking a licensing, certification, or national test is pro-rated based on the actual amount of the fee charged for the test relative to the rate of $2,200.96 for one month. The maximum reimbursable amount for licensing and certification tests is $2,000. There is no maximum reimbursable amount for national tests.

Sections 3313, 3315 and 3315A of title 38, U.S.C., direct VA to increase the maximum tuition and fee payments and entitlement-charge amounts each AY (beginning on August 1st) based on the most recent percentage increase determined under 38 U.S.C. 3015(h). The most recent percentage increase determined under 38 U.S.C. 3015(h) is 1.3%, which was effective on October 1, 2021.

The maximum tuition and fee payments and entitlement charge amounts for training pursued under the Post-9/11 GI Bill beginning after July 31, 2022, and before August 1, 2023, are listed below. VA's calculations for the 2022-2023 AY are based on the 1.3% increase.

2022-2023 Academic Year
Type of school | Actual net cost of tuition and fees not to exceed
POST-9/11 GI BILL MAXIMUM TUITION AND FEE AMOUNTS
PUBLIC | In-State/Resident Charges.
PRIVATE/FOREIGN | $26,381.37.
NON-DEGREE GRANTING | $26,381.37.
VOCATIONAL FLIGHT | $15,075.05.
CORRESPONDENCE | $12,813.78.
POST 9/11 ENTITLEMENT CHARGE AMOUNT FOR TESTS
LICENSING AND CERTIFICATION TESTS | Entitlement will be pro-rated based on the actual amount of the fee charged for the test relative to the rate of $2,200.96 for one month. The maximum reimbursable amount for licensing and certification tests is $2,000.
NATIONAL TESTS | Entitlement will be pro-rated based on the actual amount of the fee charged for the test relative to the rate of $2,200.96 for one month. There is no maximum reimbursable amount for national tests.

Signing Authority

Denis McDonough, Secretary of Veterans Affairs, approved this document on March 4, 2022 and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2022-05866 Filed 3-18-22; 8:45 am]

BILLING CODE 8320-01-P